AGENCY FOR INTERNATIONAL DEVELOPMENT

Notice of Advisory Committee on Voluntary Foreign Aid Meeting on November 1, 2019

AGENCY: U.S. Agency for International Development.

ACTION: Notice of meeting.

SUMMARY: Pursuant to the Federal Advisory Committee Act, notice is hereby given of a meeting of the Advisory Committee on Voluntary Foreign Aid (ACVFA).

Date: Friday, November 1, 2019.

Time: 10:00-11:30 a.m.

Location: Center for Strategic and International Studies (CSIS), 1616 Rhode Island Avenue NW, Washington, DC 20036.

SUPPLEMENTARY INFORMATION:

Purpose

The Advisory Committee on Voluntary Foreign Aid (ACVFA) brings together officials from the U.S. Agency for International Development (USAID) and private voluntary organizations (PVOs), representatives from universities, international non-governmental organizations (NGOs), U.S. businesses, and multilateral and private organizations to foster understanding, communication, and cooperation in the area of foreign aid.

Agenda

USAID leadership will make opening remarks, followed by a presentation and discussion on the principles, benchmarks, and programs that the Agency is considering to support countries along their development journey to self-reliance and long-term prosperity. The full meeting agenda will be forthcoming on the ACVFA website at http://www.usaid.gov/who-we-are/organization/advisory-committee.

Stakeholders

The meeting is free and open to the public. Persons wishing to attend should register online at http://www.usaid.gov/who-we-are/organization/advisory-committee.

FOR FURTHER INFORMATION CONTACT: Diana Leo, acvfa@usaid.gov or 202-712-0862.

Diana Leo,
Executive Director, U.S. Agency for International Development.

[FR Doc. 2019-23876 Filed 10-30-19; 8:45 am]

BILLING CODE P